DEPARTMENT OF HEALTH AND HUMAN SERVICES

Administration for Children and Families

[OMB #: 0970-0416]

Proposed Information Collection Activity; Current Population Survey—Child Support Supplement

AGENCY: Office of Child Support Enforcement, Administration for Children and Families, U.S. Department of Health and Human Services.

ACTION: Request for public comment.

SUMMARY: The Office of Child Support Enforcement (OCSE), Administration for Children and Families (ACF) is requesting that the Office of Management and Budget (OMB) approve a revision to an approved information collection: Current Population Survey—Child Support Supplement. Information collected through the survey pertains to child support programs. Analysis of survey data helps OCSE fulfill the mandate to oversee the national child support program and will help legislators and policymakers determine the efficacy of various child support legislation. The current OMB approval expires August 31, 2025.

DATES: Comments due September 22, 2025.

ADDRESSES: The public may view and comment on this information collection request at: https://www.reginfo.gov/public/do/PRAViewICR?ref_nbr=202508-0970-008. You can also obtain copies of the proposed collection of information by emailing infocollection@acf.hhs.gov. Identify all emailed requests by the title of the information collection.

SUPPLEMENTARY INFORMATION:

Description: The Current Population Survey—Child Support Supplement collects detailed information about child support agreements and awards, including both required payments and amounts received, as well as data about the socioeconomic characteristics of custodial parents and their families. Analysis of the information provides a nationwide assessment of the need for and effectiveness of the child support program, which helps OCSE align the child support program to meet the needs of the families it serves. The survey analysis will also help legislators make child support policy decisions. OCSE revised the survey to delete questions and update language.

Respondents: Individuals and households.

Annual Burden Estimates

In 2023, the Census Bureau began to collect information about the family relationships among all the individuals in the household by identifying the biological, adopted, step, or foster parents for each child in the household. Households with children under 21 not living with both biological or adopted parents are asked questions in the Child Support Supplement. This change reduced the overall number of respondents significantly from 34,500 to 3,600 but increased the time per response from about 2 minutes to about 20 minutes. The U.S. Census Bureau performed a calculation of the time it took to conduct the 2023 interviews, using audit trails from the completed cases. The 2026 increase in the burden hours reflects this information.

Collection instrument | Annual number of respondents | Annual number of responses per respondent | Average burden hours per response | Total annual burden hours
Current Population Survey—Child Support Supplement | 4,500 | 1 | 0.0667 | 300

Comments: ACF specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: This supplement is sponsored by the ACF OCSE and is authorized by Title IV-D of the Social Security Act. This supplement will be conducted by the U.S. Census Bureau and is authorized by 13 U.S.C. 182 which states, “the Secretary may make surveys deemed necessary to furnish annual and other interim current data on the subjects covered by the censuses provided for in this title.”

Mary C. Jones,
ACF/OPRE Certifying Officer.

[FR Doc. 2025-16145 Filed 8-21-25; 8:45 am]

BILLING CODE 4184-41-P